COMMISSION ON CIVIL RIGHTS

Notice of Public Meeting of the Michigan Advisory Committee To Hear Testimony Regarding the Civil Rights Impact of Civil Forfeiture Practices in the State

AGENCY: U.S. Commission on Civil Rights.

ACTION: Announcement of meeting.

SUMMARY: Notice is hereby given, pursuant to the provisions of the rules and regulations of the U.S. Commission on Civil Rights (Commission) and the Federal Advisory Committee Act that the Michigan Advisory Committee (Committee) will hold a meeting on Thursday May 26, 2016, from 9:00 a.m.-3:45 p.m. EDT for the purpose of hearing testimony regarding the civil rights impact of civil asset forfeiture in the State. Of concern to the Committee is the extent to which law enforcement seizure of property believed to be connected to illegal activity may have a disparate impact on the basis of race, color, or other federally protected category.

This meeting will take place at the Michigan Department of Transportation, Office of Aeronautics Auditorium, 2700 Port Lansing Rd., Lansing, MI 48906. This meeting is free and open to the public. An open forum period will be provided to allow members of the public to make a statement at the end of the morning and afternoon sessions. Individuals with disabilities requiring reasonable accommodations should contact the Regional Programs Unit at 312-353-8311 ten days prior to the meeting to make appropriate arrangements.

Members of the public are also entitled to submit written comments; the comments must be received in the regional office within 30 days following the meeting. Written comments may be mailed to the Regional Programs Unit, U.S. Commission on Civil Rights, 55 W. Monroe St., Suite 410, Chicago, IL 60615. They may also be faxed to the Commission at (312) 353-8324, or emailed to Carolyn Allen at callen@usccr.gov. Persons who desire additional information may contact the Regional Programs Unit at (312) 353-8311.

Records and documents discussed during the meeting will be available for public viewing prior to and after the meeting at http://facadatabase.gov/committee/meetings.aspx?cid=255. Click on the “Meeting Details” and “Documents” links to download. Records generated from this meeting may also be inspected and reproduced at the Regional Programs Unit, as they become available, both before and after the meeting. Persons interested in the work of this Committee are directed to the Commission's Web site, http://www.usccr.gov, or may contact the Regional Programs Unit at the above email or street address.

Agenda

○ Opening Remarks and Introductions (9:00 a.m.-9:10 a.m.)

• Panel 1: (9:10 a.m.-10:20 a.m.) Attorneys

• Panel 2: (10:30 a.m.-11:40 a.m.) Legislators

• Open Forum (11:40 a.m.-12:00 p.m.)

○ Break (12:00 p.m.-1:30 p.m.)

• Panel 3: (1:30 p.m.-2:45 p.m.) Law Enforcement

• Open Forum (3:00 p.m.-3:30 p.m.)

○ Closing Remarks (3:30 p.m.-3:45 p.m.)

DATES: The meeting will be held on Thursday, May 26, 2016, at 9:00 a.m. EDT.

FOR FURTHER INFORMATION CONTACT: Melissa Wojnaroski at mwojnaroski@usccr.gov or 312-353-8311.

Dated: May 5, 2016.
David Mussatt,
Chief, Regional Programs Unit.

[FR Doc. 2016-10964 Filed 5-9-16; 8:45 am]

BILLING CODE 6335-01-P